DEPARTMENT OF COMMERCE

National Oceanic and Atmospheric Administration

[RTID 0648-XD273]

Endangered and Threatened Species; Take of Anadromous Fish

AGENCY: National Marine Fisheries Service (NMFS), National Oceanic and Atmospheric Administration (NOAA), Commerce.

ACTION: Notice of issuance of 17 scientific research permits.

SUMMARY: Notice is hereby given that NMFS has issued 17 scientific research permits under the Endangered Species Act (ESA) to the individuals and organizations listed in Table 1. The research is intended to increase knowledge of species listed under the ESA and to help guide management and conservation efforts.

ADDRESSES: The permits and related documents are available for review upon written request via email to nmfs.wcr-apps@noaa.gov (please include the permit number in the subject line of the email).

FOR FURTHER INFORMATION CONTACT: Shivonne Nesbit, Portland, OR ((ph.: 541-805-5320), email: Shivonne.Nesbit@noaa.gov).

SUPPLEMENTARY INFORMATION: Notice was published in the Federal Register on the dates listed below that requests for permits and permit modifications had been submitted by the below-named applicants. To locate the Federal Register notice that announced our receipt of the applications and a complete description of the research, go to https://www.federalregister.gov and search on the permit number and Federal Register notice information provided in the table below.

Table 1—Issued Permits and Permit Modifications
Permit No. | RTID | Applicant | Previous Federal Register notice | Issuance date
1134-8R | 0648-XC771 | Columbia River Inter-Tribal Fish Commission; 729 NE Oregon Street, Suite 200, Portland, OR 97232-2107 (Responsible Party: Robert Lothrop) | 88 FR 10295, February 17, 2023 | April 21, 2023.
15573-4R | 0648-XC771 | Glenn-Colusa Irrigation District; P.O. Box 150, Willows, CA 95988 (Responsible party: Thad Bettner) | 88 FR 10295, February 17, 2023 | March 31, 2023.
15824-3R | 0648-XC771 | County of Santa Cruz, Environmental Health Services; 701 Ocean Street, Room 312, Santa Cruz, CA 95060 (Responsible party: Sierra Ryan) | 88 FR 10295, February 17, 2023 | March 31, 2023.
16303-3R | 0648-XC771 | USGS Western Fisheries Research Center; 6505 NE 65th Street, Seattle, WA 98115 (Responsible party: Michael Schmidt) | 88 FR 10295, February 17, 2023 | April 6, 2023.
21061-2R | 0648-XC771 | Windward Environmental; 200 W Mercer St. Suite 401, Seattle, WA 98119 (Responsible party: Thai Do) | 88 FR 10295, February 17, 2023 | April 5, 2023.
22093-2R | 0648-XC771 | Snoqualmie Valley Watershed Improvement District; PO Box 1148, Carnation, WA 98014 (Responsible party: Andrea Obst) | 88 FR 10295, February 17, 2023 | April 6, 2023.
22998-2R | 0648-XC771 | U.S. Fish and Wildlife Service, Western Washington Fish and Wildlife Conservation; 510 Desmond Dr SE 102, Lacey, WA 98503 (Responsible party: Jeffery Johnson) | 88 FR 10295, February 17, 2023 | April 6, 2023.
26368-2M | 0648-XC771 | Idaho State University; 1856 S 3rd Ave, Pocatello, ID 83201 (Responsible party: Tyler Breech) | 88 FR 10295, February 17, 2023 | April 4, 2023.
26714 | 0648-XC771 | Oregon Department of Fish and Wildlife; 65495 Alder Slope Rd., Enterprise, OR 97828 (Responsible party: Michael Lance) | 88 FR 10295, February 17, 2023 | April 4, 2023.
26766 | 0648-XC771 | Washington Department of Natural Resources, Small Forest Landowners Office; PO Box 544, Twisp, WA 98856 (Responsible party: Brent Haverkamp) | 88 FR 10295, February 17, 2023 | April 4, 2023.
26968 | 0648-XC771 | California Department of Fish and Wildlife, Aquatic Bioassessment Lab; 2005 Nimbus Rd, Rancho Cordova, CA 95670 (Responsible party: Alison Furler) | 88 FR 10295, February 17, 2023 | March 31, 2023.
27069 | 0648-XC771 | Thomas Gast & Associates Environmental Consultants; PO Box 1137, Arcata, CA 95518 (Responsible party: Thomas Gast) | 88 FR 10295, February 17, 2023 | June 20, 2023.
27091 | 0648-XC771 | Port of Seattle, Maritime Environment & Sustainability; PO Box 1209, Seattle, WA 98111 (Responsible party: Sloan Jon) | 88 FR 10295, February 17, 2023 | April 6, 2023.
27098 | 0648-XC771 | WA Department of Natural Resources, Aquatic Resources; 1111 Washington St SE, Olympia, WA 98504 (Responsible party: Ron Coleman) | 88 FR 10295, February 17, 2023 | April 6, 2023.
27129 | 0648-XC771 | United States Geological Survey; 10615 SE Cherry Blossom Dr., Portland, OR 97216 (Responsible party: Ian Waite) | 88 FR 10295, February 17, 2023 | April 7, 2023.
27162 | 0648-XC771 | Washington Department of Natural Resources, Olympic Region; 411 Tillicum Lane, Forks, WA 98331 (Responsible party: Drew Rosanbalm) | 88 FR 10295, February 17, 2023 | August 14, 2023.
27212 | 0648-XC771 | Oregon State University, Department of Fisheries and Wildlife; 104 Nash Hall, Corvallis, OR 97330 (Responsible party: Brian Sidlauskas) | 88 FR 10295, February 17, 2023 | April 4, 2023.

In compliance with the National Environmental Policy Act of 1969 (42 U.S.C. 4321 et seq.), a final determination has been made that the activities proposed are categorically excluded from the requirement to prepare an environmental assessment or environmental impact statement.

Authority

Scientific research permits are issued in accordance with section 10(a)(1)(A) of the ESA (16 U.S.C. 1531 et seq.) and regulations governing listed fish and wildlife permits (50 CFR 222-226). NMFS issues permits based on finding that such permits: (1) are applied for in good faith; (2) if granted and exercised, would not operate to the disadvantage of the listed species that are the subject of the permit; and, (3) are consistent with the purposes and policy of section 2 of the ESA. The authority to take listed species is subject to conditions set forth in the permits.

Dated: August 22, 2023.
Angela Somma,
Chief, Endangered Species Division, Office of Protected Resources, National Marine Fisheries Service.

[FR Doc. 2023-18420 Filed 8-25-23; 8:45 am]

BILLING CODE 3510-22-P